DEPARTMENT OF THE INTERIOR

National Park Service

Kalaupapa National Historical Park Advisory Commission Meeting

AGENCY: National Park Service, Interior.

ACTION: Notice of meeting.

SUMMARY: This notice announces the date for the March 15, 2011, Meeting of the Kalaupapa National Historical Park Advisory Commission.

DATES: The public meeting of the Commission will be held on Tuesday, March 15, 2011, at 9 a.m. (Hawaiian Standard Time).

ADDRESSES: The meeting will be held at McVeigh Social Hall, Kalaupapa National Historical Park, Kalaupapa, Hawaii 96742.

FOR FURTHER INFORMATION CONTACT: Steve Prokop, Superintendent, Kalaupapa National Historical Park, P.O. Box 2222, Kalaupapa, Hawaii 96742, telephone (808) 567-6802, or electronically at the following Internet address: Steve_Prokop@nps.gov.

SUPPLEMENTARY INFORMATION:

Agenda

The March 15, 2011, Commission meeting will consist of the following:

1. Report from the Superintendent.

2. Bridge Replacement and Trail.

3. Memorial Project Updates.

4. Air Transportation Service.

5. General Management Plan Update.

6. Public Comments.

The meeting is open to the public, and time will be reserved for public comment. Interested persons may make oral/written presentations to the Commission or file written statements. Such requests should be made to the Superintendent at least seven days prior to the meeting. Oral comments will be summarized for the record. If persons wish to have their comments recorded verbatim, they must submit them in writing. Before including your address, phone, number, e-mail address, or other personal identifying information in your comment, you should be aware that your entire comment—including your personal identifying information—may be made publicly available at any time. While you can ask us in your comment to withhold your personal identifying information from public review, we cannot guarantee that we will be able to do so.

Dated: January 13, 2011.
Stephen Prokop,
Superintendent, Kalaupapa National Historical Park.

[FR Doc. 2011-3391 Filed 2-16-11; 8:45 am]

BILLING CODE 4312-GJ-P